FEDERAL COMMUNICATIONS COMMISSION

Privacy Act System of Records

AGENCY: Federal Communications Commission (FCC or Commission or Agency)

ACTION: Notice; one new Privacy Act system of records.

SUMMARY: Pursuant to subsection (e)(4) of the Privacy Act of 1974, as amended (5 U.S.C. 552a), the FCC proposes to add a new system of records, FCC/WCB-1, “Lifeline Program.” The FCC's Wireline Competition Bureau (WCB) will use the information contained in FCC/WCB-1 to cover the personally identifiable information (PII) that is required as part of the Lifeline Program (“Lifeline”). The Lifeline Program provides discounts for voice telephony service (i.e., telephone service) to qualifying low-income households (i.e., individuals residing in a single household). Individuals may qualify for Lifeline through proof of income or participation in another qualifying program. Since the Telecommunications Act of 1996 (1996 Act), the Lifeline Program has been administered by the Universal Service Administrative Company (USAC) under Commission direction. USAC will maintain the databases containing consumer PII that are necessary to eliminate waste, fraud, and abuse in the Lifeline Program.

DATES: In accordance with 5 U.S.C. 552a(e)(4) and (e)(11) of the Privacy Act, as amended, any interested person may submit written comments concerning this new system of records on or before January 6, 2014. The Administrator, Office of Information and Regulatory Affairs (OIRA), Office of Management and Budget (OMB), which has oversight responsibility under the Privacy Act to review the system of records, and Congress may submit comments on or before January 15, 2014. The proposed new system of records will become effective on January 15, 2014 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street SW., Washington, DC 20554, or via the Internet at Leslie.Smith@fcc.gov.

FOR FURTHER INFORMATION CONTACT: Leslie F. Smith, Performance Evaluation and Records Management (PERM), Room 1-C216, Federal Communications Commission (FCC), 445 12th Street SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be obtained or viewed pursuant to the contact and location information given above in the ADDRESSES section. The purpose for establishing this new system of records, FCC/WCB-1, “Lifeline Program” is to cover the PII in the Commission's Lifeline Program. The Lifeline Program serves low-income individuals by providing qualifying individuals (i.e., all individuals in a single household) with discounts on voice telephony service.

This notice meets the requirement documenting the proposed new system of records that is to be added to the systems of records that the FCC maintains, and provides the public, OMB, and Congress with an opportunity to comment.

FCC/WCB-1

SYSTEM NAME:

Lifeline Program

SECURITY CLASSIFICATION:

The FCC's Security Operations Center (SOC) has not assigned a security classification to this system of records.

SYSTEM LOCATION(S):

Universal Service Administrative Company (USAC)/Contractor Server Address:

Universal Service Administrative Company (USAC), 2000 L St. NW., Suite 200, Washington, DC 20036; and Federal Communications Commission (FCC), 445 12th Street SW., Washington, DC 20554.

CATEGORIES OF INDIVIDUALS COVERED BY THE SYSTEM:

The categories of individuals in this system include those individuals (residing in a single household) who have applied for benefits; are currently receiving benefits; are minors whose status qualifies a parent or guardian for benefits; or who have received benefits under the Lifeline Program, which serves low-income individuals by providing these qualifying individuals with discounts on telephone service for their household.

CATEGORIES OF RECORDS IN THE SYSTEM:

The categories of records in the system include, but are not limited to: The individual's name, residential address, date of birth, last four digits of social security number, tribal identification number, telephone number, means of qualification for Lifeline (i.e., income or relevant program participation), Lifeline service initiation date and termination date, amount of Lifeline support received per month, date of the provision of Link-Up support (if applicable).

AUTHORITY FOR MAINTENANCE OF THE SYSTEM:

47 U.S.C. 151-154, 201-205, 214, 254, 403. 47 CFR 54.404-54.410.

PURPOSE(S):

The Lifeline Program provides discounts for voice telephony service, and the initial connection charge in tribal areas to support such service, to qualifying low-income individuals (i.e., one Lifeline telephone service per household). Individuals may qualify for Lifeline through proof of income or proof of participation in another qualifying program. The Lifeline Program system of records covers the PII that the Eligible Telecommunications Carriers (ETCs) must provide to prevent the individuals in a single household from receiving more than one Lifeline Program benefit, as required by 47 CFR 54.404 and 54.410. The Lifeline Program system of records also covers the PII that enables USAC to recertify the eligibility of current Lifeline Program subscribers of ETCs who have elected this option, as required by 47 CFR 54.410. The PII in WCB-1 will include:

1. The information that is used to determine whether an individual in a household, who is applying for a Lifeline Program benefit, is already receiving a Lifeline Program benefit from one or more providers. In order to determine if this information is in fact accurate, the information is confirmed with a third-party verification service not in the control of USAC or the Commission;

2. The information that ETCs that elect to have USAC recertify their Lifeline subscribers. These ETCs must provide USAC with a subscriber list containing PII that includes the first name, last name, address, Lifeline telephone number, date of birth, and last four digits of social security number for each subscriber; and

3. The information that is contained in the records of the inquiries that the ETCs will make to the Lifeline Program contractor's call center to verify that an individual is eligible to participate in the Lifeline Program. USAC will designate a third party contractor to establish this call center as part of USAC's “exception management practices.” The contractor will operate this call center, which individuals may use who are seeking to participate in or are already participating in the Lifeline Program. These individuals may call the center to ensure that they have not been improperly denied access to Lifeline Program benefits through the verification process. Any information generated by these inquiries will constitute a separate, distinct database, which will include, but is not limited to, recordings of live agent calls to be stored for 30 days from the date of the call, identity of the user initiating the request, brief description of the request, type of request, identification of the USAC-approved script used in responding to the request, resolution status, and whether the request was escalated (i.e., if the agents escalates the issue to the agent's manager or USAC program personnel). This information will be used, among other things, to verify the accuracy of the information stored in the Lifeline system (i.e., to determine the accuracy of the PII provided by the ETC.) Records in the Lifeline system are available for public inspection after redaction of information that could identify the individual participant, such as the individual's name(s), date of birth, last four digits of social security number, tribal ID number, telephone number, or other PII.

ROUTINE USES OF RECORDS MAINTAINED IN THE SYSTEM, INCLUDING CATEGORIES OF USERS AND THE PURPOSES OF SUCH USES:

Information about individuals in this system of records may routinely be disclosed under the following conditions. The FCC will determine whether disclosure of the records is compatible with the purpose for which the records were collected in each of these cases.

1. FCC Program Management—A record from this system may be accessed and used by the FCC and USAC employees to conduct official duties associated with the management and operation of the Lifeline Program and the National Lifeline Accountability Database (NLAD), as directed by the Commission. While the FCC will not routinely access the information in this system, information which includes, but is not limited to USAC audits and/or investigations of the ETCs (for the purposes of eliminating waste, fraud, and abuse in this program) may be shared with the FCC's Enforcement Bureau (EB), Wireline Competition Bureau (WCB), Office of Managing Director (OMD), and/or Office of Inspector General (OIG), as necessary;

2. Third Party Contractors—A record from this system may be disclosed to an employee of a third-party contractor to conduct the verification process that allows the ETC to determine the accuracy of the PII provided by the ETC to the system of records. When an employee of a third-party contractor, responsible for exception management, verifies the eligibility of the consumer subject to an exception;

3. State Agencies and Authorized Entities—A record from this system may be disclosed to designated state agencies and other authorized entities, which include, but are not limited to, state public utility commissions, and their agents, as is consistent with applicable Federal and State laws, to administer the Lifeline Program on behalf of an ETC in that state and to perform other management and oversight duties and responsibilities, as necessary;

4. FCC Enforcement Actions—When a record in this system involves an informal complaint filed alleging a violation of FCC Rules and Regulations by an applicant, licensee, certified or regulated entity or an unlicensed person or entity, the complaint may be provided to the alleged violator for a response. When an order or other Commission-issued document that includes consideration of an informal complaint or complaints is issued by the FCC to implement or to enforce FCC Rules and Regulations, the complainant's name may be made public in that order or document. Where a complainant in filing his or her complaint explicitly requests that confidentiality of his or her name from public disclosure, the Commission will endeavor to protect such information from public disclosure. Complaints that contain requests for confidentiality may be dismissed if the Commission determines that the request impedes the Commission's ability to investigate and/or resolve the complaint;

5. Congressional Inquiries—When requested by a Congressional office in response to an inquiry that an individual made to the Congressional office for the individual's own records;

6. Congressional Investigations and Inquiries—A record from this system may be disclosed to either House of Congress, or, to the extent of matter within its jurisdiction, any committee or subcommittee thereof, for the purposes of an official Congressional investigation;

7. Government-wide Program Management and Oversight—When requested by the National Archives and Records Administration (NARA), the Office of Personnel Management, the General Services Administration (GSA), and/or the Government Accountability Office (GAO) for the purpose of records management inspections conducted under authority of 44 U.S.C. 2904 and 2906 (such disclosure(s) shall not be used to make a determination about individuals); when the U.S. Department of Justice (DOJ) is contacted in order to obtain that department's advice regarding disclosure obligations under the Freedom of Information Act; or when the Office of Management and Budget (OMB) is contacted in order to obtain that office's advice regarding obligations under the Privacy Act;

8. Income and Program Eligibility Records—A record from this system may be disclosed to the appropriate Federal and/or State authorities for the purposes of determining whether a household may participate in the Lifeline Program;

9. Law enforcement and Investigation—Where there is an indication of a violation or potential violation of a statute, regulation, rule, or order, records from this system may be shared with appropriate federal, state, or local authorities either for purposes of obtaining additional information relevant to a FCC decision or for referring the record for investigation, enforcement, or prosecution by another agency, e.g., Internal Revenue Service (IRS) to investigate income eligibility verification;

10. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

11. Department of Justice—A record from this system of records may be disclosed to the Department of Justice (DOJ) or in a proceeding before a court or adjudicative body when:

(a) The United States, the Commission, a component of the Commission, or, when represented by the government, an employee of the Commission is a party to litigation or anticipated litigation or has an interest in such litigation, and

(b) The Commission determines that the disclosure is relevant or necessary to the litigation; and

12. Breach of Federal Data—A record from this system may be disclosed to appropriate agencies, entities (including USAC), and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity (including USAC)) that rely upon the compromised information; and (3) the disclosure made to such agencies, entities, and persons is reasonably necessary to assist in connection with the Commission's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OF RECORDS IN THE SYSTEM:

STORAGE:

The information pertaining to the Lifeline Program includes electronic records, files and data and paper documents, records, and files. Both USAC and the contractor will jointly manage and the electronic data, which will be stored in the computer network databases housed at USAC and at the contractor, and the paper documents, which will be stored in filing cabinets in their respective offices at USAC and the contractor.

RETRIEVABILITY:

Information in the Lifeline Program may be retrieved by various identifiers, including, but not limited to the individual's name, last four digits of the Social Security Number (SSN), tribal identification number, date of birth, phone number, and residential address.

SAFEGUARDS:

Access to the electronic files is restricted to authorized USAC and the contractor's supervisors and staff. The FCC requires that these computer network databases be protected by various security protocols, which include, but are not limited to, controlled access, passwords, and other security features. In addition, data in the network servers for both USAC and the contractor will be routinely backed-up. The servers will be stored in secured environments to protect the data.

The paper documents are maintained in file cabinets that are located in the USAC and the contractor's office suites. The file cabinets are locked when not in use and at the end of the business day. Access to these files is restricted to authorized USAC and the contractor's staffs.

RETENTION AND DISPOSAL:

The National Archives and Records Administration (NARA) has not established a records schedule for the information in the Lifeline Program. Consequently, until NARA has approved a records schedule, USAC will maintain the information in the Lifeline Program in accordance with the requirements of the Lifeline Reform Order. The Lifeline Reform Order states that information in the Lifeline Program is maintained for ten years after the consumer de-enrolls from the Lifeline Program. See Lifeline and Link Up Reform and Modernization et al., WC Docket No. 11-42 et al., Report and Order and Further Notice of Proposed Rulemaking, 27 FCC Rcd 6656, 6740, para. 195 (2012). Disposal of obsolete or out-of-date paper documents and files is by shredding. Electronic data, files, and records are destroyed by electronic erasure.

SYSTEM MANAGER(S) AND ADDRESS:

USAC maintains the Lifeline Program for the FCC.

Address inquiries to the Universal Service Administrative Company (USAC), 2000 L Street NW., Suite 200, Washington, DC 20036; or

Wireline Competition Bureau (WCB), 445 12th Street SW., Washington, DC 20554.

NOTIFICATION PROCEDURE:

Universal Service Administrative Company (USAC), 2000 L Street NW., Suite 200, Washington, DC 20036;

Wireline Competition Bureau (WCB), Federal Communications Commission (FCC), 445 12th Street SW., Washington, DC 20554; or

Privacy Analyst, Performance Evaluation and Records Management (PERM), Office of Managing Director (OMD), Federal Communications Commission (FCC), 445 12th Street SW., Washington, DC 20554.

RECORD ACCESS PROCEDURES:

Universal Service Administrative Company (USAC), 2000 L Street NW., Suite 200, Washington, DC 20036;

Wireline Communications Bureau (WCB), Federal Communications Commission (FCC), 445 12th Street SW., Washington, DC 20554; or

Privacy Analyst, Performance Evaluation and Records Management (PERM), Office of Managing Director (OMD), Federal Communications Commission (FCC), 445 12th Street SW., Washington, DC 20554.

CONTESTING RECORD PROCEDURES:

Universal Service Administrative Company (USAC), 2000 L Street NW., Suite 200, Washington, DC 20036;

Wireline Competition Bureau (WCB), Federal Communications Commission (FCC), 445 12th Street SW., Washington, DC 20554; or

Privacy Analyst, Performance Evaluation and Records Management (PERM), Office of Managing Director (OMD), Federal Communications Commission (FCC), 445 12th Street SW., Washington, DC 20554.

RECORD SOURCE CATEGORIES:

The sources for the information in the Lifeline Program include, but are not limited to:

1. The information that the ETCs must provide prior to enrolling subscribers and/or to re-certifying subscribers (in qualifying households) for participation in the Lifeline Program; and

2. The information that individuals (in qualifying households) must provide to determine their households' eligibility for participation in the Lifeline Program, e.g., participating in other qualifying programs and/or services.

EXEMPTIONS CLAIMED FOR THE SYSTEM:

None.

Federal Communications Commission.
Gloria J. Miles,
Federal Register Liaison, Office of the Secretary, Office of Managing Director.

[FR Doc. 2013-29172 Filed 12-5-13; 8:45 am]

BILLING CODE 6712-01-P